DEPARTMENT OF JUSTICE

Notice of Lodging of Consent Decree Under the Oil Pollution Act

Notice is hereby given that on July 25, 2006, a proposed Consent Decree in United States et al. v. Bean Stuyvesant, LLC et al., Civil Action No. C-03-5694 CRB, was lodged with the United States District Court for the Northern District of California.

The Consent Decree settles claims for natural resource damages under the Oil Pollution Act, 33 U.S.C. 2701 et seq., and certain state law claims that arose in connection with a 1999 spill of fuel oil from the dredge M/V Stuyvesant in the vicinity of Humboldt Bay, near Eureka, California. Under the Consent Decree the defendants will: (1) Pay $1,975,000 jointly to the state and Federal natural resource trustees for natural resource damages; (2) pay $887,090 to cover assessment costs incurred by the U.S. Department of the Interior, the Natural Oceanic and Atmospheric Administration, the California Department of Fish and Game, and the California State Lands Commission; (3) pay $48,000 to resolve state law claims; and (4) purchase a conservation easement to protect approximately 625 acres of redwood forest in perpetuity as habitat for the marbled murrelet.

The Department of Justice will receive for a period of thirty (30) days from the date of this publication comments relating to the Consent Decree. Comments should be addressed to the Assistant Attorney General, Environment and Natural Resources Division, P.O. Box 7611, U.S. Department of Justice, Washington, DC 20044-7611, and should refer to United States et al. v. Bean Stuyvesant LLC et al., D.J. Ref. 90-5-1-1-07061.

During the public comment period, the Consent Decree may be examined on the following Department of Justice Web site http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $17.75 (25 cents per page reproduction costs) payable to the U.S. Treasury.

Henry S. Friedman,
Assistant Chief, Environmental Enforcement Section, Environmental and Natural Resources Division.

[FR Doc. 06-6809 Filed 8-9-06; 8:45 am]

BILLING CODE 4410-15-M